DEPARTMENT OF ENERGY

Federal Energy Regulatory Commission

[Docket No. EC01-77-000, et al.]

Interstate Power Company, et al.; Electric Rate and Corporate Regulation Filings

March 13, 2001.

Take notice that the following filings have been made with the Commission:

1. Interstate Power Company

[Docket No. EC01-77-000]

Take notice that on March 6, 2001, Interstate Power Company (IPC), pursuant to section 203 of the Federal Power Act, 16 U.S.C. section 824b, filed an Application for approval to sell a transmission line (Line) in Jo Davies and Carroll County, Illinois to Jo-Carroll Electric Cooperative, Inc. (Jo-Carroll). The total sale price is Two Hundred Twenty Thousand ($220,000.00) Dollars.

IPC notes that the instant application reflects the mutual agreement between IPC and Jo-Carroll, and would result in a minimal impact on the transmission systems, costs and revenues of both utilities, IPC requests the Commission approve the sale of the Line effective November 30, 2000. IPC requests that the Commission waives any notice requirements pursuant to Part 33 as may be necessary. IPC also requests waiver of any other applicable filing requirements under the Commission's Rules and Regulations as may be necessary to approve the sale on the date requested.

Comment date: March 27, 2001, in accordance with Standard Paragraph E at the end of this notice.

2. Central Illinois Light Company

[Docket No. ER01-1137-001]

Take notice that the Notice of Filing issued on March 12, 2001 in Docket No. ER00-1137-001, should have been issued in Docket No. ER01-1137-001.

3. Mirant Zeeland, LLC

[Docket No. ER01-1263-000]

Take notice that on February 20, 2001, Mirant Zeeland, LLC (Mirant Zeeland), tendered for filing a Notice of Succession changing its name from SEI Michigan, L.L.C., and also submits new rate schedule sheets in compliance with the Commission's Order No. 614.

Comment date: April 10, 2001, in accordance with Standard Paragraph E at the end of this notice.

4. Mirant Neenah, LLC

[Docket No. ER01-1264-000]

Take notice that on February 20, 2001, Mirant Neenah, LLC (Mirant Neenah), tendered for filing a Notice of Succession changing its name from SEI Wisconsin, L.L.C., and also submits new rate schedule sheets in compliance with the Commission's Order No. 614.

Comment date: April 10, 2001, in accordance with Standard Paragraph E at the end of this notice.

5. Mirant Americas Energy Marketing, LP

[Docket No. ER01-1265-000]

Take notice that on February 20, 2001, Mirant Americas Energy Marketing, LP, tendered for filing a Notice of Succession changing its name from Southern Company Energy Marketing, LP and also submits new rate schedule sheets in compliance with the Commission's Order No. 614.

Comment date: April 10, 2001, in accordance with Standard Paragraph E at the end of this notice.

6. Mirant Bowline, LLC

[Docket No. ER01-1266-000]

Take notice that on February 20, 2001, Mirant Bowline, LLC, tendered for filing a Notice of Succession changing its name from Southern Energy Bowline, L.L.C. and also submits new rate schedule sheets in compliance with the Commission's Order No. 614.

Comment date: April 10, 2001, in accordance with Standard Paragraph E at the end of this notice.

7. Mirant California, LLC

[Docket No. ER01-1267-000]

Take notice that on February 20, 2001, Mirant California, LLC, tendered for filing a Notice of Succession changing its name from Southern Energy California, L.L.C. and also submits new rate schedule sheets in compliance with the Commission's Order No. 614.

Comment date: April 10, 2001, in accordance with Standard Paragraph E at the end of this notice.

8. Mirant Canal, LLC

[Docket No. ER01-1268-000]

Take notice that on February 20, 2001, Mirant Canal, LLC, tendered for filing a Notice of Succession changing its name from Southern Energy Canal, L.L.C. and also submits new rate schedule sheets in compliance with the Commission's Order No. 614.

Comment date: April 10, 2001, in accordance with Standard Paragraph E at the end of this notice.

9. Mirant Chalk Point, LLC

[Docket No. ER01-1269-000]

Take notice that on February 20, 2001, Mirant Chalk Point, LLC, tendered for filing a Notice of Succession changing its name from Southern Energy Chalk Point, L.L.C. and also submits new rate schedule sheets in compliance with the Commission's Order No. 614.

Comment date: April 10, 2001, in accordance with Standard Paragraph E at the end of this notice.

10. Mirant Delta, LLC

[Docket No. ER01-1270-000]

Take notice that on February 20, 2001, Mirant Delta, LLC, tendered for filing a Notice of Succession changing its name from Southern Energy Delta, L.L.C. and also submits new rate schedule sheets in compliance with the Commission's Order No. 614.

Comment date: April 10, 2001, in accordance with Standard Paragraph E at the end of this notice.

11. Mirant Kendall, LLC

[Docket No. ER01-1271-000]

Take notice that on February 20, 2001, Mirant Kendall, LLC, tendered for filing a Notice of Succession changing its name from Southern Energy Kendall, L.L.C. and also submits new rate schedule sheets in compliance with the Commission's Order No. 614.

Comment date: April 10, 2001, in accordance with Standard Paragraph E at the end of this notice.

12. Mirant Lovett, LLC

[Docket No. ER01-1272-000]

Take notice that on February 20, 2001, Mirant Lovett, LLC, tendered for filing a Notice of Succession changing its name from Southern Energy Lovett, L.L.C. and also submits new rate schedule sheets in compliance with the Commission's Order No. 614.

Comment date: April 10, 2001, in accordance with Standard Paragraph E at the end of this notice.

13. Mirant Mid-Atlantic, LLC

[Docket No. ER01-1273-000]

Take notice that on February 20, 2001, Mirant Mid-Atlantic, LLC, tendered for filing a Notice of Succession changing its name from Southern Energy Mid-Atlantic, L.L.C. and also submits new rate schedule sheets in compliance with the Commission's Order No. 614.

Comment date: April 10, 2001, in accordance with Standard Paragraph E at the end of this notice.

14. Mirant New England, LLC

[Docket No. ER01-1274-000]

Take notice that on February 20, 2001, Mirant New England, LLC, tendered for filing a Notice of Succession changing its name from Southern Energy New England, L.L.C. and also submits new rate schedule sheets in compliance with the Commission's Order No. 614.

Comment date: April 10, 2001, in accordance with Standard Paragraph E at the end of this notice.

15. Mirant NY-Gen, LLC

[Docket No. ER01-1275-000]

Take notice that on February 20, 2001, Mirant NY-Gen, LLC, tendered for filing a Notice of Succession changing its name from Southern Energy NY-Gen, L.L.C. and also submits new rate schedule sheets in compliance with the Commission's Order No. 614.

Comment date: April 10, 2001, in accordance with Standard Paragraph E at the end of this notice.

16. Mirant Peaker, LLC

[Docket No. ER01-1276-000]

Take notice that on February 20, 2001, Mirant Peaker, LLC, tendered for filing a Notice of Succession changing its name from Southern Energy Peaker, L.L.C. and also submits new rate schedule sheets in compliance with the Commission's Order No. 614.

Comment date: April 10, 2001, in accordance with Standard Paragraph E at the end of this notice.

17. Mirant Potomac River, LLC

[Docket No. ER01-1277-000]

Take notice that on February 20, 2001, Mirant Potomac River, LLC, tendered for filing a Notice of Succession changing its name from Southern Energy Potomac River, L.L.C. and also submits new rate schedule sheets in compliance with the Commission's Order No. 614.

Comment date: April 10, 2001, in accordance with Standard Paragraph E at the end of this notice.

18. Mirant Potrero, LLC

[Docket No. ER01-1278-000]

Take notice that on February 20, 2001, Mirant Potrero, LLC, tendered for filing a Notice of Succession changing its name from Southern Energy Potrero, L.L.C. and also submits new rate schedule sheets in compliance with the Commission's Order No. 614.

Comment date: April 10, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-6871 Filed 3-19-01; 8:45 am]

BILLING CODE 6717-01-P